DEPARTMENT OF THE INTERIOR

Fish and Wildlife Service

[FWS-R2-ES-2012-N128; FXES11130200000C2-112-FF02ENEH00]

Endangered and Threatened Wildlife and Plants; Thick-Billed Parrot Draft Recovery Plan Addendum

AGENCY: Fish and Wildlife Service, Interior.

ACTION: Notice of availability; request for comment.

SUMMARY: We, the Fish and Wildlife Service (Service), announce the availability of our Draft Recovery Plan Addendum for the Thick-billed Parrot under the Endangered Species Act of 1973, as amended (Act). We have developed this draft recovery plan addendum to comply with a December 14, 2010, Stipulated Settlement Agreement between WildEarth Guardians and the Secretary of the Interior. This species is currently found in Mexico and is believed to be extirpated from the United States; however, historically its range also included southern Arizona and possibly southwestern New Mexico. We request review and comment on this addendum from local, State, and Federal agencies; Tribes; and the public. We will also accept any new information on the status of the thick-billed parrot throughout its range to assist in finalizing the addendum to the recovery plan.

DATES: To ensure consideration, we must receive written comments on or before August 20, 2012. However, we will accept information about any species at any time.

ADDRESSES: If you wish to review the draft addendum, you may obtain a copy by visiting our Web site at http://www.fws.gov/southwest/es/arizona (type “thick-billed parrot” in the document title search field) or http://www.fws.gov/southwest/es/Documents/R2ES/Thick-billed_Parrot_Draft_Recovery_Plan_Addendum_June_2012.pdf.

Alternatively, you may contact the Arizona Ecological Services Office, U.S. Fish and Wildlife Service, 2321 West Royal Palm Road, Phoenix, AZ 85021-4951 (602-242-0210, phone). If you wish to comment on the draft addendum, you may submit your comments in writing by any one of the following methods:

• U.S. mail: Field Supervisor, at the above address;

• Hand-delivery: Arizona Ecological Services Office at the above address;

• Fax: (602) 242-2513; or

• Email: Steve_Spangle@fws.gov.

For additional information about submitting comments, see the “Request for Public Comments” section below.

FOR FURTHER INFORMATION CONTACT: Susan Sferra, Fish and Wildlife Biologist, at the above address and phone number, or email at Susan_Sferra@fws.gov.

SUPPLEMENTARY INFORMATION:

Background

Recovery of endangered or threatened animals and plants to the point where they are again secure, self-sustaining members of their ecosystems is a primary goal of our endangered species program and the Act (16 U.S.C. 1531 et seq.). Recovery means improvement of the status of listed species to the point at which listing is no longer appropriate under the criteria set out in section 4(a)(1) of the Act. The Act requires the development of recovery plans for listed species, unless such a plan would not promote the conservation of a particular species.

Species' History

Historically the thick-billed parrot's range extended from Mexico into southern Arizona and possibly southwestern New Mexico in the United States. There are no formal historical nesting records for the United States; however, thick-billed parrots visited southeastern Arizona, and in some years large flocks were observed (Snyder et al. 1999). At present, this species is believed to be extirpated from the United States, with the last confirmed report of a thick-billed parrot flock in the Chiricahua Mountains of southeastern Arizona in 1938 (Monson and Phillips 1981 in Snyder et al. 1999). Extirpation of the U.S. population was likely caused by excessive, unregulated shooting (Snyder et al. 1999). In Mexico, this species occurs in the States of Chihuahua, Sonora, Durango, Jalisco, Colima, and Michoacán, spanning the Sierra Madre Occidental.

The thick-billed parrot (Rhynchopsitta pachyrhyncha) was listed as an endangered species on June 3, 1970 (35 FR 8491), pursuant to the Endangered Species Conservation Act (ESCA), the precursor of the Endangered Species Act. Based on the different listing procedures for foreign and domestic species under the ESCA, the thick-billed parrot was listed as a “foreign” species. When the Endangered Species Act replaced the ESCA, the thick-billed parrot was not carried forward onto the Federal List of Endangered and Threatened Wildlife and Plants (List) for the United States due to an oversight, although the thick-billed parrot remained listed in Mexico. Subsequently, the parrot was proposed to be listed in the United States on July 25, 1980, wherein the proposed listing rule acknowledged that it was always the intention of the Service to list the thick-billed parrot as endangered in the United States (see 45 FR 49844, page 49845). In 2009, the U.S. Department of the Interior's Assistant Solicitor for Fish and Wildlife provided an explanation stating that the species has always been listed as endangered throughout its entire range (see 74 FR 33957). Today, the thick-billed parrot is listed throughout its range, including Mexico and the United States. Critical habitat has not been proposed for the thick-billed parrot.

Although thick-billed parrots are currently extirpated from the United States, the Service has developed this draft recovery plan addendum to comply with the December 14, 2010, Stipulated Settlement Agreement between WildEarth Guardians and the Secretary of the Interior. The Thick-billed Parrot Draft Recovery Plan Addendum was created by adopting the 2009 thick-billed parrot recovery plan for Mexico, “Programa de Acción para la Conservación de las Especies: Cotorras Serranas (PACE),” and adding contents required by the Act (such as Recovery Criteria, Management Actions in the United States, and an Implementation Table) as an Addendum. In addition to statutory requirements of the Act, this draft addendum to the PACE addresses the species' historical occurrence in the United States, summarizes information from scientific literature and U.S. and Mexican biologists regarding the status and threats to the thick-billed parrot, and presents additional information required by U.S. recovery planning policy. We support the strategy for recovering the thick-billed parrot set forth in the PACE (2009) and note that this is the first time the U.S. Fish and Wildlife Service (Service) is adopting a Mexican recovery plan for a species to serve as the best available science to inform a U.S. recovery plan.

The PACE was initiated by the Mexican National Commission of Protected Natural Areas (Comisión Nacional de Áreas Protegidas, CONANP) under the 2007 Federal “Commitment to Conservation” programs in Mexico. Experts and public officials were brought together to prevent the deterioration of Mexican ecosystems and biodiversity. Thirty-five priority and endangered species were selected, including the thick-billed parrot, with the objective of creating the framework for, coordinating, and promoting the Federal government's efforts to recover these species within the Conservation Program for Species at Risk (PROCER). The focus of the PACE (2009) is on extant populations of the thick-billed parrot; it does not address extirpated thick-billed parrots or their historical range in the United States. As a result, our recovery actions are focused primarily on conservation within the current range of this species in Mexico and, to a lesser degree, on the potential for expansion into the historical range in the United States. Recommended actions for addressing current threats to the species and evaluating recovery may be applied or refined in the future.

The parrot's current range is limited to high elevations of the Sierra Madre Occidental of Mexico, extending from northwestern Chihuahua and northeastern Sonora into Durango and continuing in a southeasterly direction to Jalisco, Colima, and Michoacán. Thick-billed parrots migrate seasonally from their primary breeding (summering) grounds in Chihuahua to wintering areas farther south, possibly migrating 1,000 kilometers (km) (621 miles (mi)) or more between their summering and wintering areas (Snyder et al. 1999, PACE 2009). The northernmost breeding area is Mesa de Guacamayas, located within 80 km (50 mi) of the U.S.-Mexico border (Snyder et al. 1999).

Thick-billed parrots live in gregarious flocks in old-growth mixed-conifer forests and require a diversity of food resources and the availability of size-specific cavities for nesting. The thick-billed parrot primarily feeds on seeds of several pine species, and to a lesser extent on acorns and terminal buds of pine trees (Snyder et al. 1999). As an obligate cavity nester, the thick-billed parrot needs cavities typically found in large-diameter pines and snags. Because of their specialized habitat needs, thick-billed parrot populations have experienced significant historical declines, corresponding to a drastic loss of high-elevation mixed-conifer forests, mainly from a legacy of logging. Only 1 percent of the old-growth forests is estimated to remain, supporting small populations of thick-billed parrots concentrated in a handful of sites.

Threats to the thick-billed parrot include loss of habitat, primarily driven by extensive logging of large mature pines, removal of nesting snags (Snyder et al. 1999), and, to a lesser degree, catastrophic forest fires (PACE 2009); low numbers of individuals and small remaining populations, leaving them vulnerable to stochastic events; removal of birds from the wild in Mexico for the illegal pet trade; and climate change, based on projections for the Southwestern United States and northern Mexico predicting warmer, drier, and more drought-like conditions (Hoerling and Eischeid 2007; Seager et al. 2007). Extirpation of the thick-billed parrot in the United States was likely caused by excessive, unregulated shooting (Snyder et al. 1999). The recovery plan addendum recommends protection of currently occupied habitat; additional research to understand relationships between habitat, migration patterns, and population dynamics; development of a standardized monitoring protocol; development of replacement nesting habitat; verification of occupied wintering habitat; development of forest management plans; and the enforcement of existing environmental and species collection laws. The plan recognizes the need to manage these forest landscapes in both the United States and Mexico to maximize resources for the species.

Recovery Plan Goals

The objective of an agency recovery plan is to provide a framework for the recovery of a species so that protection under the Act is no longer necessary. A recovery plan includes scientific information about the species and provides criteria and actions necessary for us to be able to reclassify the species to threatened status or remove it from the List. Recovery plans help guide our recovery efforts by describing actions we consider necessary for the species' conservation, and by estimating time and costs for implementing needed recovery measures. To achieve its goals, this draft recovery plan addendum identifies the following objectives:

• Support the thick-billed parrot throughout its range in perpetuity.

• Maintain habitat conditions necessary to provide feeding, nesting, and wintering habitat for the thick-billed parrot through time.

• Assess the potential for the United States to support naturally dispersing or actively relocated thick-billed parrots, including a review of U.S. historical habitat, current habitat management, and habitat connectivity with Mexico.

The draft recovery plan addendum contains recovery criteria based on maintaining and increasing population numbers and habitat quality and quantity. The draft recovery plan addendum focuses on protecting populations, managing threats, maintaining habitat, monitoring progress, and building partnerships to facilitate recovery.

As the thick-billed parrot meets recovery criteria, we will review the subspecies' status and consider downlisting, and, ultimately, removal from the List.

Request for Public Comments

Section 4(f) of the Act requires us to provide public notice and an opportunity for public review and comment during recovery plan development. It is also our policy to request peer review of recovery plans (July 1, 1994; 59 FR 34270). In an appendix to the approved recovery plan, we will summarize and respond to the issues raised by the public and peer reviewers. Substantive comments may or may not result in changes to the recovery plan; comments regarding recovery plan implementation will be forwarded as appropriate to Federal or other entities so that they can be taken into account during the course of implementing recovery actions. Responses to individual commenters will not be provided, but we will provide a summary of how we addressed substantive comments in an appendix to the approved recovery plan.

We invite written comments on the draft recovery plan addendum. In particular, we are interested in additional information regarding the current threats to the species and the costs associated with implementing the recommended recovery actions. We provide an English translation of the PACE in Appendix B of the addendum; however, we will not address comments specific to the content of the PACE, as this document was finalized by CONANP in 2009.

Before we approve our draft addendum, we will consider all comments we receive by the date specified in DATES above. Methods of submitting comments are in the ADDRESSES section above.

Public Availability of Comments

Before including your address, phone number, email address, or other personal identifying information in your comment, you should be aware that your entire comment—including your personal identifying information—may be made publicly available at any time. While you can ask us in your comment to withhold your personal identifying information from public review, we cannot guarantee that we will be able to do so.

Comments and materials we receive will be available, by appointment, for public inspection during normal business hours at our office (see ADDRESSES).

References Cited

A complete list of all references cited herein is available upon request from the U.S. Fish and Wildlife Service, Branch of Recovery (see FOR FURTHER INFORMATION CONTACT section).

Authority

We developed our draft recovery plan addendum under the authority of section 4(f) of the Act, 16 U.S.C. 1533(f). We publish this notice under section 4(f) Endangered Species Act of 1973, as amended (16 U.S.C. 1531 et seq.).

Dated: June 6, 2012.
Benjamin Tuggle,
Regional Director, Southwest Region.

[FR Doc. 2012-14853 Filed 6-18-12; 8:45 am]

BILLING CODE 4310-55-P